DEPARTMENT OF TRANSPORTATION

Federal Highway Administration

[Docket No. FHWA-2022-0012]

Agency Information Collection Activities: Emergency Approval Request

AGENCY: Federal Highway Administration (FHWA), DOT.

ACTION: Notice and request for comments.

SUMMARY: FHWA invites public comments about our intention to request the Office of Management and Budget's (OMB) approval for a new information collection, which is summarized below under Supplementary Information. We are required to publish this notice in the Federal Register by the Paperwork Reduction Act of 1995.

DATES: Please submit comments by May 9, 2022.

ADDRESSES: You may send comments within 10 days to the Office of Information and Regulatory Affairs, Office of Management and Budget, 725 17th Street NW, Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2022-0012.

FOR FURTHER INFORMATION CONTACT: Melissa Corder, 202-366-5853, Office of Real Estate Services, Federal Highway Administration, Department of Transportation, 1200 New Jersey Ave. SE, Washington, DC, between 9 a.m. and 5 p.m., Monday through Friday, except Federal holidays.

SUPPLEMENTARY INFORMATION:

Title: Temporary Waivers of 49 CFR part 24 Regulatory Requirements.

Background: As Lead Agency for the Uniform Relocation Assistance and Real Property Acquisition Policies Act (Uniform Act), the Federal Highway Administration (FHWA) may issue temporary waivers of specific non-statutory regulatory requirements of 49 CFR part 24 under section 24.7 for its Federal-aid programs. A section 24.7 waiver is needed when programmatic circumstances in a State or on a nationwide basis require alternate procedures be allowed to meet program needs for relocating persons displaced as part of a highway project.

The requests for waiver of some regulatory requirements of 49 CFR part 24 are infrequent, for good cause and occur on a case by case basis to address programmatic or project related nuances or circumstances. The temporary waiver of specific 49 CFR part 24 non-statutory regulatory requirements by FHWA ensures that displaced persons receive the relocation assistance necessary to move to and occupy replacement housing or for a nonresidential displaced person to move to a replacement location.

Use of temporary waivers of specific 49 CFR part 24 regulatory requirements by a State Department of Transportation (SDOT) are voluntary, and requests to implement alternate procedures in accordance with such temporary waivers of specific 49 CFR part 24 regulatory requirements are granted on either a programmatic or case by case project basis as approved by FHWA.

The nominal amount of information the SDOT obtains as part of its use of the temporary waiver is readily available from sources used as part of their normal relocation work, and without cost to the displaced person or the SDOT. The information is used to document the determination of benefit amounts made by the SDOT to make the monetary needs for successful relocation of a displaced person within their financial means.

Respondents: 52.

Estimated Average Burden per Response: 15.

Estimated Total Annual Burden: 780.

Authority: The Paperwork Reduction Act of 1995; 44 U.S.C. Chapter 35, as amended; and 49 CFR 1.48.

Issued On: April 22, 2022.
Michael Howell,
Information Collection Officer.

[FR Doc. 2022-08982 Filed 4-26-22; 8:45 am]

BILLING CODE P